DEPARTMENT OF THE INTERIOR

Bureau of Land Management

[NV-930-1430-ET; NVN-52289]

Cancellation of Proposed Withdrawal; Nevada

AGENCY: Bureau of Land Management (BLM), Interior.

ACTION: Notice.

SUMMARY: The United States Environmental Protection Agency, Region IX, on behalf of the City of Sparks, has cancelled its withdrawal application N-52289 for a sewage sludge disposal site in Warm Springs Valley, Nevada. The original Notice of Proposed Withdrawal was published as FR Doc. 89-28634, 54 FR 50659, December 8, 1989. A Notice of Termination of the segregative effect of the withdrawal application was published as FR Doc. 91-30739, 56 FR 66870, December 26, 1991.

EFFECTIVE DATE: June 4, 2003.

FOR FURTHER INFORMATION CONTACT: Nancy Suglian, Land Law Examiner, BLM Carson City Field Office, 5665 Morgan Mill Road, Carson City, NV 89701. Telephone (775) 885-6000.

SUPPLEMENTARY INFORMATION: The United States Environmental Protection Agency requested that the application be withdrawn at this time. The City of Sparks currently contracts with a private company for land application of sewage sludge on privately owned lands and plans to use this option in the foreseeable future.

Dated: April 25, 2003.
Elayn Briggs,
Acting Manager, Carson City Field Office.

[FR Doc. 03-13925 Filed 6-3-03; 8:45 am]

BILLING CODE 4310-HC-P